DEPARTMENT OF STATE

[Public Notice 7520]

Culturally Significant Object Imported for Exhibition Determinations: “Titian's Woman in a Blue Dress ‘La Bella’ ”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000, I hereby determine that the object to be included in the exhibition “Titian's Woman in a Blue Dress ‘La Bella’,” imported from abroad for temporary exhibition within the United States, is of cultural significance. The object is imported pursuant to a loan agreement with the foreign owner or custodian. I also determine that the exhibition or display of the exhibit object at the Kimbell Art Museum, Fort Worth, Texas, from on or about July 22, 2011, until on or about September 18, 2011, the Nevada Museum of Art, Reno, Nevada, from on or about September 23, 2011, until on or about November 20, 2011, the Portland Art Museum, Portland, Oregon, from on or about November 25, 2011, until on or about January 29, 2012, and at possible additional exhibitions or venues yet to be determined, is in the national interest. I have ordered that Public Notice of these Determinations be published in the Federal Register.

FOR FURTHER INFORMATION CONTACT: For further information, including a description of the exhibit object, contact Paul W. Manning, Attorney-Adviser, Office of the Legal Adviser, U.S. Department of State (telephone: 202-632-6469). The mailing address is U.S. Department of State, SA-5, L/PD, Fifth Floor (Suite 5H03), Washington, DC 20522-0505.

Dated: June 29, 2011.
Ann Stock,
Assistant Secretary, Bureau of Educational and Cultural Affairs, Department of State.

[FR Doc. 2011-17102 Filed 7-6-11; 8:45 am]

BILLING CODE 4710-05-P